DEPARTMENT OF JUSTICE

Drug Enforcement Administration

[Docket No. DEA-392]

Importer of Controlled Substances Application: Research Triangle Institute

ACTION: Notice of application.

DATES: Registered bulk manufacturers of the affected basic classes, and applicants therefore, may file written comments on or objections to the issuance of the proposed registration on or before March 11, 2019. Such persons may also file a written request for a hearing on the application on or before March 11, 2019.

ADDRESSES: Written comments should be sent to: Drug Enforcement Administration, Attention: DEA Federal Register Representative/DPW, 8701 Morrissette Drive, Springfield, Virginia 22152. All requests for hearing must be sent to: Drug Enforcement Administration, Attn: Administrator, 8701 Morrissette Drive, Springfield, Virginia 22152. All requests for hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of manufacturers, distributors, dispensers, importers, and exporters of controlled substances (other than final orders in connection with suspension, denial, or revocation of registration) has been redelegated to the Assistant Administrator of the DEA Diversion Control Division (“Assistant Administrator”) pursuant to section 7 of 28 CFR part 0, appendix to subpart R.

In accordance with 21 CFR 1301.34(a), this is notice that on May 2, 2016, Research Triangle Institute, 3040 East Cornwallis Road, Hermann Bldg., Room 106, Research Triangle Park, North Carolina 27709 has applied to be registered as an importer of the following basic classes of controlled substances.

Controlled substance | Drug code | Schedule
3-Fluoro-N-methylcathinone (3-FMC) | 1233 | I
Cathinone | 1235 | I
Methcathinone | 1237 | I
4-Fluoro-N-methylcathinone (4-FMC) | 1238 | I
Pentedrone (α-methylaminovalerophenone) | 1246 | I
Mephedrone (4-Methyl-N-methylcathinone) | 1248 | I
4-Methyl-N-ethylcathinone (4-MEC) | 1249 | I
Naphyrone | 1258 | I
N-Ethylamphetamine | 1475 | I
N,N-Dimethylamphetamine | 1480 | I
Fenethylline | 1503 | I
Aminorex | 1585 | I
4-Methylaminorex (cis isomer) | 1590 | I
Gamma Hydroxybutyric Acid | 2010 | I
Methaqualone | 2565 | I
Mecloqualone | 2572 | I
JWH-250 (1-Pentyl-3-(2-methoxyphenylacetyl) indole) | 6250 | I
SR-18 (Also known as RCS-8) (1-Cyclohexylethyl-3-(2-methoxyphenylacetyl) indole) | 7008 | I
5-Fluoro-UR-144 and XLR11 [1-(5-Fluoro-pentyl)1H-indol-3-yl](2,2,3,3-tetramethylcyclopropyl)methanone | 7011 | I
AB-FUBINACA (N-(1-amino-3-methyl-1-oxobutan-2-yl)-1-(4-fluorobenzyl)-1H-indazole-3-carboxamide) | 7012 | I
JWH-019 (1-Hexyl-3-(1-naphthoyl)indole) | 7019 | I
AB-PINACA (N-(1-amino-3-methyl-1-oxobutan-2-yl)-1-pentyl-1H-indazole3-carboxamide) | 7023 | I
THJ-2201 [1-(5-fluoropentyl)-1H-indazol-3-yl](naphthalen-1-yl)methanone | 7024 | I
AB-CHMINACA (N-(1-amino-3-methyl-1-oxobutan-2-yl)-1-(cyclohexylmethyl)1H-indazole-3-carboxamide | 7031 | I
MAB-CHMINACA (N-(1-amino-3,3dimethyl-1-oxobutan-2-yl)-1-(cyclohexylmethyl)-1H-indazole-3-carboxamide) | 7032 | I
ADB-PINACA (N-(1-amino-3,3-dimethyl-1-oxobutan-2-yl)-1-pentyl-1H-indazole-3-carboxamide) | 7035 | I
APINACA and AKB48 N-(1-Adamantyl)-1-pentyl-1H-indazole-3-carboxamide | 7048 | I
JWH-081 (1-Pentyl-3-(1-(4-methoxynaphthoyl) indole) | 7081 | I
SR-19 (Also known as RCS-4) (1-Pentyl-3-[(4-methoxy)-benzoyl] indole | 7104 | I
JWH-018 (also known as AM678) (1-Pentyl-3-(1-naphthoyl)indole) | 7118 | I
JWH-122 (1-Pentyl-3-(4-methyl-1-naphthoyl) indole) | 7122 | I
UR-144 (1-Pentyl-1H-indol-3-yl)(2,2,3,3-tetramethylcyclopropyl)methanone | 7144 | I
JWH-073 (1-Butyl-3-(1-naphthoyl)indole) | 7173 | I
JWH-200 (1-[2-(4-Morpholinyl)ethyl]-3-(1-naphthoyl)indole) | 7200 | I
AM2201 (1-(5-Fluoropentyl)-3-(1-naphthoyl) indole) | 7201 | I
JWH-203 (1-Pentyl-3-(2-chlorophenylacetyl) indole) | 7203 | I
PB-22 (Quinolin-8-yl 1-pentyl-1H-indole-3-carboxylate) | 7222 | I
5F-PB-22 (Quinolin-8-yl 1-(5-fluoropentyl)-1H-indole-3-carboxylate) | 7225 | I
Alpha-ethyltryptamine | 7249 | I
Ibogaine | 7260 | I
CP-47,497 (5-(1,1-Dimethylheptyl)-2-[(1R,3S)-3-hydroxycyclohexyl-phenol) | 7297 | I
CP-47,497 C8 Homologue (5-(1,1-Dimethyloctyl)-2-[(1R,3S)3-hydroxycyclohexyl-phenol) | 7298 | I
Lysergic acid diethylamide | 7315 | I
2,5-Dimethoxy-4-(n)-propylthiophenethylamine (2C-T-7) | 7348 | I
Marihuana | 7360 | I
Tetrahydrocannabinols | 7370 | I
Parahexyl | 7374 | I
Mescaline | 7381 | I
2-(4-Ethylthio-2,5-dimethoxyphenyl) ethanamine (2C-T-2 ) | 7385 | I
3,4,5-Trimethoxyamphetamine | 7390 | I
4-Bromo-2,5-dimethoxyamphetamine | 7391 | I
4-Bromo-2,5-dimethoxyphenethylamine | 7392 | I
4-Methyl-2,5-dimethoxyamphetamine | 7395 | I
2,5-Dimethoxyamphetamine | 7396 | I
JWH-398 (1-Pentyl-3-(4-chloro-1-naphthoyl) indole) | 7398 | I
2,5-Dimethoxy-4-ethylamphetamine | 7399 | I
3,4-Methylenedioxyamphetamine | 7400 | I
5-Methoxy-3,4-methylenedioxyamphetamine | 7401 | I
N-Hydroxy-3,4-methylenedioxyamphetamine | 7402 | I
3,4-Methylenedioxy-N-ethylamphetamine | 7404 | I
3,4-Methylenedioxymethamphetamine | 7405 | I
4-Methoxyamphetamine | 7411 | I
Peyote | 7415 | I
5-Methoxy-N-N-dimethyltryptamine | 7431 | I
Alpha-methyltryptamine | 7432 | I
Bufotenine | 7433 | I
Diethyltryptamine | 7434 | I
Dimethyltryptamine | 7435 | I
Psilocybin | 7437 | I
Psilocyn | 7438 | I
5-Methoxy-N,N-diisopropyltryptamine | 7439 | I
N-Ethyl-1-phenylcyclohexylamine | 7455 | I
1-(1-Phenylcyclohexyl)pyrrolidine | 7458 | I
1-[1-(2-Thienyl)cyclohexyl]piperidine | 7470 | I
1-[1-(2-Thienyl)cyclohexyl]pyrrolidine | 7473 | I
N-Ethyl-3-piperidyl benzilate | 7482 | I
N-Methyl-3-piperidyl benzilate | 7484 | I
N-Benzylpiperazine | 7493 | I
4-Methyl-alphapyrrolidinopropiophenone (4-MePPP) | 7498 | I
2-(2,5-Dimethoxy-4-methylphenyl) ethanamine (2C-D) | 7508 | I
2-(2,5-Dimethoxy-4-ethylphenyl) ethanamine (2C-E ) | 7509 | I
2-(2,5-Dimethoxyphenyl) ethanamine (2C-H) | 7517 | I
2-(4-iodo-2,5-dimethoxyphenyl) ethanamine (2C-I) | 7518 | I
2-(4-Chloro-2,5-dimethoxyphenyl) ethanamine (2C-C) | 7519 | I
2-(2,5-Dimethoxy-4-nitro-phenyl) ethanamine (2C-N) | 7521 | I
2-(2,5-Dimethoxy-4-(n)-propylphenyl) ethanamine (2C-P) | 7524 | I
2-(4-Isopropylthio)-2,5-dimethoxyphenyl) ethanamine (2C-T-4 ) | 7532 | I
MDPV (3,4-Methylenedioxypyrovalerone) | 7535 | I
2-(4-bromo-2,5-dimethoxyphenyl)-N-(2-methoxybenzyl) ethanamine (25B-NBOMe) | 7536 | I
2-(4-chloro-2,5-dimethoxyphenyl)-N-(2-methoxybenzyl) ethanamine (25C-NBOMe) | 7537 | I
2-(4-iodo-2,5-dimethoxyphenyl)-N-(2-methoxybenzyl) ethanamine (25I-NBOMe) | 7538 | I
Methylone (3,4-Methylenedioxy-N-methylcathinone) | 7540 | I
Butylone | 7541 | I
Pentylone | 7542 | I
alpha-pyrrolidinopentiophenone (α-PVP) | 7545 | I
alpha-pyrrolidinobutiophenone (α-PBP) | 7546 | I
AM-694 (1-(5-Fluoropentyl)-3-(2-iodobenzoyl) indole) | 7694 | I
Acetyldihydrocodeine | 9051 | I
Benzylmorphine | 9052 | I
Codeine-N-oxide | 9053 | I
Cyprenorphine | 9054 | I
Desomorphine | 9055 | I
Etorphine (except HCl) | 9056 | I
Codeine methylbromide | 9070 | I
Dihydromorphine | 9145 | I
Difenoxin | 9168 | I
Heroin | 9200 | I
Hydromorphinol | 9301 | I
Methyldesorphine | 9302 | I
Methyldihydromorphine | 9304 | I
Morphine methylbromide | 9305 | I
Morphine methylsulfonate | 9306 | I
Morphine-N-oxide | 9307 | I
Myrophine | 9308 | I
Nicocodeine | 9309 | I
Nicomorphine | 9312 | I
Normorphine | 9313 | I
Pholcodine | 9314 | I
Thebacon | 9315 | I
Acetorphine | 9319 | I
Drotebanol | 9335 | I
Acetylmethadol | 9601 | I
Allylprodine | 9602 | I
Alphacetylmethadol except levo-alphacetylmethadol | 9603 | I
Alphameprodine | 9604 | I
Alphamethadol | 9605 | I
Benzethidine | 9606 | I
Betacetylmethadol | 9607 | I
Betameprodine | 9608 | I
Betamethadol | 9609 | I
Betaprodine | 9611 | I
Clonitazene | 9612 | I
Dextromoramide | 9613 | I
Diampromide | 9615 | I
Diethylthiambutene | 9616 | I
Dimenoxadol | 9617 | I
Dimepheptanol | 9618 | I
Dimethylthiambutene | 9619 | I
Dioxaphetyl butyrate | 9621 | I
Dipipanone | 9622 | I
Ethylmethylthiambutene | 9623 | I
Etonitazene | 9624 | I
Etoxeridine | 9625 | I
Furethidine | 9626 | I
Hydroxypethidine | 9627 | I
Ketobemidone | 9628 | I
Levomoramide | 9629 | I
Levophenacylmorphan | 9631 | I
Morpheridine | 9632 | I
Noracymethadol | 9633 | I
Norlevorphanol | 9634 | I
Normethadone | 9635 | I
Norpipanone | 9636 | I
Phenadoxone | 9637 | I
Phenampromide | 9638 | I
Phenoperidine | 9641 | I
Piritramide | 9642 | I
Proheptazine | 9643 | I
Properidine | 9644 | I
Racemoramide | 9645 | I
Trimeperidine | 9646 | I
Phenomorphan | 9647 | I
Propiram | 9649 | I
1-Methyl-4-phenyl-4-propionoxypiperidine | 9661 | I
1-(2-Phenylethyl)-4-phenyl-4-acetoxypiperidine | 9663 | I
Tilidine | 9750 | I
Para-Fluorofentanyl | 9812 | I
3-Methylfentanyl | 9813 | I
Alpha-methylfentanyl | 9814 | I
Acetyl-alpha-methylfentanyl | 9815 | I
Acetyl Fentanyl (N-(1-phenethylpiperidin-4-yl)-N-phenylacetamide) | 9821 | I
Butyryl Fentanyl | 9822 | I
Beta-hydroxyfentanyl | 9830 | I
Beta-hydroxy-3-methylfentanyl | 9831 | I
Alpha-methylthiofentanyl | 9832 | I
3-Methylthiofentanyl | 9833 | I
Thiofentanyl | 9835 | I
Amphetamine | 1100 | II
Methamphetamine | 1105 | II
Lisdexamfetamine | 1205 | II
Phenmetrazine | 1631 | II
Methylphenidate | 1724 | II
Amobarbital | 2125 | II
Pentobarbital | 2270 | II
Secobarbital | 2315 | II
Glutethimide | 2550 | II
Nabilone | 7379 | II
1-Phenylcyclohexylamine | 7460 | II
Phencyclidine | 7471 | II
4-Anilino-N-phenethyl-4-piperidine (ANPP) | 8333 | II
Phenylacetone | 8501 | II
1-Piperidinocyclohexanecarbonitrile | 8603 | II
Alphaprodine | 9010 | II
Anileridine | 9020 | II
Coca Leaves | 9040 | II
Cocaine | 9041 | II
Codeine | 9050 | II
Etorphine HCl | 9059 | II
Dihydrocodeine | 9120 | II
Oxycodone | 9143 | II
Hydromorphone | 9150 | II
Diphenoxylate | 9170 | II
Ecgonine | 9180 | II
Ethylmorphine | 9190 | II
Hydrocodone | 9193 | II
Levomethorphan | 9210 | II
Levorphanol | 9220 | II
Isomethadone | 9226 | II
Meperidine | 9230 | II
Meperidine intermediate-A | 9232 | II
Meperidine intermediate-B | 9233 | II
Meperidine intermediate-C | 9234 | II
Metazocine | 9240 | II
Methadone | 9250 | II
Methadone intermediate | 9254 | II
Metopon | 9260 | II
Dextropropoxyphene, bulk (non-dosage forms) | 9273 | II
Morphine | 9300 | II
Oripavine | 9330 | II
Thebaine | 9333 | II
Dihydroetorphine | 9334 | II
Opium, raw | 9600 | II
Opium extracts | 9610 | II
Opium fluid extract | 9620 | II
Opium tincture | 9630 | II
Opium, powdered | 9639 | II
Opium, granulated | 9640 | II
Levo-alphacetylmethadol | 9648 | II
Opium poppy | 9650 | II
Oxymorphone | 9652 | II
Noroxymorphone | 9668 | II
Poppy Straw Concentrate | 9670 | II
Phenazocine | 9715 | II
Piminodine | 9730 | II
Racemethorphan | 9732 | II
Racemorphan | 9733 | II
Alfentanil | 9737 | II
Remifentanil | 9739 | II
Sufentanil | 9740 | II
Carfentanil | 9743 | II
Tapentadol | 9780 | II
Bezitramide | 9800 | II
Fentanyl | 9801 | II
Moramide-intermediate | 9802 | II

The company plans to import small quantities of the listed controlled substances for the National Institute on Drug Abuse (NIDA) for research activities. The company plans to import analytical reference standards for distribution to its customers for research and analytical purposes.

Dated: January 2, 2019.
John J. Martin,
Assistant Administrator.

[FR Doc. 2019-01523 Filed 2-6-19; 8:45 am]

BILLING CODE 4410-09-P